DEPARTMENT OF COMMERCE

National Oceanic and Atmospheric Administration

[I.D. 041000A]

Endangered Species; Permits

AGENCY: National Marine Fisheries Service (NMFS), National Oceanic and Atmospheric Administration (NOAA), Commerce.

ACTION: Receipt of an application for a scientific research permit (1236) and an application to modify a permit (1190).

SUMMARY: Notice is hereby given of the following actions regarding permits for takes of endangered and threatened species for the purposes of scientific research and/or enhancement:

NMFS has received a permit application from John A. Musick, Ph.D., of the College of William and Mary at Williamsburg, VA (JM-CWM)(1226) and NMFS has received an application for permit modifications from Dr. Charles Karnella, of NMFS' Pacific Islands Area Office (CK-PIAO)(1190).

DATES: Comments or requests for a public hearing on either the new application or modification request must be received at the appropriate address or fax number (see ADDRESSES) no later than 5 pm eastern standard time on May 15, 2000.

ADDRESSES: Written comments on any of the new applications or modification requests should be sent to the Office of Protected Resources, Endangered Species Division, F/PR3, 1315 East-West Highway, Silver Spring, MD 20910. Comments may also be sent via fax to 301-713-0376. Comments will not be accepted if submitted via e-mail or the internet. The applications and related documents are available for review by appointment in the Office of Protected Resources, Endangered Species Division, F/PR3, 1315 East-West Highway, Silver Spring, MD 20910 (ph. 301-713-1401).

FOR FURTHER INFORMATION CONTACT: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in this Notice

The following species are covered in this notice: endangered and threatened Green (Chelonia mydas) and olive ridley (Lepidochelys olivacea) sea turtles; endangered Hawksbill (Eretmochelys imbricata), Kemp's ridley (Lepidochelys kempii), and Leatherback (Dermochelys coriacea) sea turtles; and threatened Loggerhead sea turtle (Caretta caretta).

New Application Received

JM-CWM (1236) has requested a 5-year permit to take listed sea turtles in the coastal waters of Virginia, the Chesapeake Bay and in the US Virgin Islands (USVI). Research conducted in the Chesapeake Bay and coastal waters of Virginia will study inter-nesting movements of sea turtles in Virginia via satellite telemetry and to assess the effects of beach replenishment on turtle activities. Research conducted in the USVI will study habitat utilization of juvenile Hawksbill turtles at the Buck Island Reef National Monument off of St. Croix, USVI. Both studies will capture, handle, tag (PIT, flipper, satellite, radio and acoustic), collect biological samples (via humeral bone biopsy, blood samples and laparoscopy) and release loggerhead, green, Kemp's ridley, hawksbill and leatherback turtles.

Modification Request Received

CK-PIAO requests a modification to Permit 1190. Permit 1190 authorizes the take of up to 10 olive ridley turtles annually that have been captured incidentally by longline fishery vessels in the Hawaiian region. These activities will aid in monitoring the Hawaiian longline fishery, a term and condition of the November 3, 1998 biological opinion on that fishery. In addition, these research activities are described in the Pacific Sea Turtle Recovery Plans. The incidental take of these turtles is covered by the incidental take statement of the November 3, 1998 opinion. The purpose of the research is to document and evaluate the incidental take of pelagic turtles by the longline fishery, to help estimate the impact of the fishery on listed turtles as individuals and as populations, and to determine methods to reduce that impact. Research will evaluate how incidental captures affect sea turtle anatomy and physiology as a function of season, location of take, water temperature, species, size, time of day, and gear configuration. The results of the research will help NMFS to better meet the goals and objectives of the Pacific Sea Turtle Recovery Plans, the Hooking Mortality Workshop, and the requirements of Section 7 Biological Opinions developed for this fishery, and ultimately, to fulfill ESA responsibilities to protect, conserve, and recover listed species.

Incidentally-captured turtles will be examined, tagged, weighed, measured, resuscitated using approved techniques, have tissue samples taken, and be released. Some of these turtles will have transmitters attached. Dead turtles will be removed from the marine environment for research purposes, including necropsy and collection of life history data. Tissue samples may be used lab studies including the following: toxicology, histopathology, and genetic studies to identify nesting origins of incidentally taken turtles. The modification would increase the authorized annual take of olive ridleys from 10 to 15 annually due to greater coverage of the Hawaii longline fishery than originally anticipated in the original permit issued March 8, 1999.

Dated: April 10, 2000.
Craig Johnson,
Acting Chief, Endangered Species Division, Office of Protected Resources, National Marine Fisheries Service.

[FR Doc. 00-9351 Filed 4-13-00; 8:45 am]

BILLING CODE 3510-22-F